DEPARTMENT OF LABOR

Office of the Secretary

Agency Information Collection Activities; Submission for OMB Review; Comment Request; Request for Assistance From Department of Labor, Employee Benefits Security Administration

ACTION: Notice.

SUMMARY: The Department of Labor (DOL) is submitting the proposed Employee Benefits Security Administration (EBSA) sponsored information collection request (ICR) titled, “Request for Assistance From Department of Labor, EBSA,” to the Office of Management and Budget (OMB) for review and approval for use in accordance with the Paperwork Reduction Act (PRA) of 1995 (Pub. L. 104-13, 44 U.S.C. chapter 35).

DATES: Submit comments on or before September 6, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Employee Benefits Security Administration (EBSA), Office of Management and Budget, Room 10235, Washington, DC 20503, Telephone: 202-395-6929/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: The EBSA assists employee benefit plan participants in understanding their rights, responsibilities, and benefits under employee benefit law and intervenes informally on their behalf with the plan sponsor in order to assist participants in obtaining the health and retirement benefits that may have been inappropriately denied. Such informal intervention can avert the necessity for a formal investigation or a civil action. The EBSA maintains a toll-free telephone number through which inquirers can reach Benefits Advisors in ten Regional Offices. The EBSA has also made a request for assistance form available on its Web site for those wishing to obtain assistance in this manner. To date, the Web form has included only basic identifying information necessary for reaching the inquirer. A Federal agency does not need OMB approval to request such basic contact information. See 5 CFR 1320.3(h)(1). Contact with the EBSA is voluntary.

The proposed information collection is a revised Web intake form. The number of required fields—first name, last name, street address, city, zip code, and telephone number—does not differ from the current form. Through its experience with electronic requests for review under the American Recovery and Reinvestment Act of 2009, approved under OMB Control Number 1210-0135, however, the EBSA has found that obtaining certain additional information can significantly expedite the handling of requests for assistance, resulting in both improved service to customers and enhanced capacity to handle inquiry volume. This information includes the plan type, broad categories of problem type, contact information for responsible parties, and a mechanism for the inquirer to attach relevant documents.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. For additional information, see the related notice published in the Federal Register on April 28, 2011 (76 FR 23844).

Interested parties are encouraged to send comments to the OMB, Office of Information and Regulatory Affairs at the address shown in the ADDRESSES section within 30 days of publication of this notice in the Federal Register. In order to help ensure appropriate consideration, comments should reference OMB ICR Reference Number 201106-1210-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration (EBSA).

Title of Collection: Request for Assistance from Department of Labor, EBSA.

OMB ICR Reference Number: 201106-1210-001.

Affected Public: Individuals or Households.

Total Estimated Number of Respondents: 30,000.

Total Estimated Number of Responses: 30,000.

Total Estimated Annual Burden Hours: 15,000.

Total Estimated Annual Other Costs Burden: $3,100.

Dated: July 29, 2011.
Michel Smyth,
Departmental Clearance Officer.

[FR Doc. 2011-19756 Filed 8-3-11; 8:45 am]

BILLING CODE 4510-29-P